DEPARTMENT OF COMMERCE

Foreign-Trade Zones Board

[S-40-2025]

Foreign-Trade Zone 205; Application for Subzone; Rincon Power, LLC; Carpinteria, California

An application has been submitted to the Foreign-Trade Zones (FTZ) Board by the Board of Harbor Commissioners of the Oxnard Harbor District, grantee of FTZ 205, requesting subzone status for the facility of Rincon Power, LLC, located in Carpinteria, California. The application was submitted pursuant to the provisions of the Foreign-Trade Zones Act, as amended (19 U.S.C. 81a-81u), and the regulations of the FTZ Board (15 CFR part 400). It was formally docketed on February 20, 2025.

The proposed subzone (0.18 acres) is located at 6381 Rose Lane, Suite A, Carpinteria, California. A notification of proposed production activity has been submitted and will be published separately for public comment. The proposed subzone would be subject to the existing activation limit of FTZ 205.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is April 7, 2025. Rebuttal comments in response to material submitted during the foregoing period may be submitted through April 22, 2025.

A copy of the application will be available for public inspection in the “Online FTZ Information Section” section of the FTZ Board's website, which is accessible via www.trade.gov/ftz.

For further information, contact Qahira El-Amin at Qahira.El-Amin@trade.gov.

Dated: February 20, 2025.
Elizabeth Whiteman,
Executive Secretary.

[FR Doc. 2025-03093 Filed 2-25-25; 8:45 am]

BILLING CODE 3510-DS-P